DEPARTMENT OF HOMELAND SECURITY

Coast Guard

33 CFR Part 117

[Docket No. USCG-2015-0447]

Drawbridge Operation Regulation; Mokelumne River, East Isleton, CA

AGENCY: Coast Guard, DHS.

ACTION: Notice of deviation from drawbridge regulation.

SUMMARY: The Coast Guard has issued a temporary deviation from the operating schedule that governs the California Department of Transportation highway drawbridge across the Mokelumne River, mile 3.0, at East Isleton, CA. The deviation is necessary to allow the bridge owner to perform rehabilitation to the bridge control house. This deviation allows the bridge to remain in the closed-to-navigation position during the deviation period.

DATES: This deviation is effective from 10 p.m. on May 29, 2015 to 10 p.m. on June 26, 2015.

ADDRESSES: The docket for this deviation, [USCG-2015-0447], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: California Department of Transportation has requested a temporary change to the operation of the California Department of Transportation highway drawbridge across the Mokelumne River, mile 3.0, at East Isleton, CA. The drawbridge navigation span provides approximately 7 feet vertical clearance above Mean High Water in the closed-to-navigation position. In accordance with 33 CFR 117.175(a), the draw opens on signal from November 1 through April 30 from 9 a.m. to 5 p.m.; and from May 1 through October 31 from 6 a.m. to 10 p.m., except that during the following periods the draw need only open for recreational vessels on the hour, 20 minutes past the hour, and 40 minutes past the hour: Saturdays, 10 a.m. until 2 p.m.; Sundays, 11 a.m. until 6 p.m.; and Memorial Day, Fourth of July and Labor Day 11 a.m. until 6 p.m.. At all other times the drawbridge shall open on signal if at least 4 hours notice is given. Navigation on the waterway is commercial, recreational, search and rescue, and law enforcement.

The drawspan will be secured in the closed-to-navigation position from 10 p.m. on May 29, 2015 to 10 p.m. on June 26, 2015, due to rehabilitation of the bridge control house. This temporary deviation has been coordinated with the waterway users. Caltrans work plan and dates have been tailored to produce the least possible impacts to waterway traffic, land traffic, businesses and potential flood response plans, while allowing the work to be performed, to ensure dependable future operation of the drawbridge.

Vessels able to pass through the bridge in the closed position may do so at any time. The bridge will not be able to open for emergencies. Alternative paths for recreational vessel traffic are available via Little Potato Slough and Georgiana Slough. The Coast Guard will inform waterway users of this temporary deviation via our Local and Broadcast Notices to Mariners, to minimize resulting navigational impacts.

In accordance with 33 CFR 117.35(e), the drawbridge must return to its regular operating schedule immediately at the end of the effective period of this temporary deviation. This deviation from the operating regulations is authorized under 33 CFR 117.35.

Dated: May 19, 2015.
D.H. Sulouff,
District Bridge Chief, Commander, Eleventh Coast Guard District.

[FR Doc. 2015-13160 Filed 5-29-15; 8:45 am]

BILLING CODE 9110-04-P